DEPARTMENT OF THE TREASURY

Office of Thrift Supervision

Proposed Agency Information Collection Activities; Comment Request—Thrift Financial Report: Schedules SC, SO, VA, PD, LD, CC, CF, DI, SI, FV, FS, HC, CSS, CCR, and CMR

AGENCY: Office of Thrift Supervision (OTS), Treasury.

ACTION: Notice and request for comment.

SUMMARY: The Department of the Treasury, as part of its continuing effort to reduce paperwork and respondent burden, invites the general public and other Federal agencies to comment on proposed and continuing information collections, as required by the Paperwork Reduction Act of 1995, 44 U.S.C. 3507. Today, the Office of Thrift Supervision within the Department of the Treasury solicits comments on proposed changes to the Thrift Financial Report (TFR), Schedule SC—Consolidated Statement of Condition, Schedule SO—Consolidated Statement of Operations, Schedule VA—Consolidated Valuation Allowances and Related Data, Schedule PD—Consolidated Past Due and Nonaccrual, Schedule LD—Loan Data, Schedule CC—Consolidated Commitments and Contingencies, Schedule CF—Consolidated Cash Flow Information, Schedule DI—Consolidated Deposit Information, Schedule SI—Supplemental Information, Schedule FS—Fiduciary and Related Services, Schedule HC—Thrift Holding Company, Schedule CSS—Subordinate Organization Schedule, Schedule CCR—Consolidated Capital Requirement, and Schedule CMR—Consolidated Maturity and Rate, and on a proposed new schedule, Schedule FV—Consolidated Assets and Liabilities Measured at Fair Value on a Recurring Basis. The changes are proposed on a phased-in basis over 2009.

At the end of the comment period, OTS will analyze the comments and recommendations received to determine if it should modify the proposed revisions prior to giving its final approval. OTS will then submit the revisions to the Office of Management and Budget (OMB) for review and approval.

DATES: Submit written comments on or before December 1, 2008.

ADDRESSES: Send comments to Information Collection Comments, Chief Counsel's Office, Office of Thrift Supervision, 1700 G Street, NW., Washington, DC 20552; send facsimile transmissions to FAX number (202) 906-6518; send e-mails to infocollection.comments@ots.treas.gov; or hand deliver comments to the Guard's Desk, east lobby entrance, 1700 G Street, NW., on business days between 9 a.m. and 4 p.m. All comments should refer to “TFR Revisions—2009, OMB No. 1550-0023.” OTS will post comments and the related index on the OTS Internet Site at http://www.ots.treas.gov. In addition, interested persons may inspect comments at the Public Reading Room, 1700 G Street, NW., by appointment. To make an appointment, call (202) 906-5922, send an e-mail to publicinfo@ots.treas.gov, or send a facsimile transmission to (202) 906-7755.

FOR FURTHER INFORMATION CONTACT: You can access sample copies of the proposed March, June, and December 2009 TFR forms on OTS's Web site at http://www.ots.treas.gov or you may request them by electronic mail from tfr.instructions@ots.treas.gov. You can request additional information about this proposed information collection from James Caton, Director, Financial Monitoring and Analysis Division, (202) 906-5680, Office of Thrift Supervision, 1700 G Street, NW., Washington, DC 20552.

SUPPLEMENTARY INFORMATION: Title: Thrift Financial Report.

OMB Number: 1550-0023.

Form Number: OTS 1313.

Abstract: OTS is proposing to revise and extend for three years the TFR, which is currently an approved collection of information. All OTS-regulated savings associations must comply with the information collections described in this notice. OTS collects this information each calendar quarter or less frequently if so stated. OTS uses this information to monitor the condition, performance, and risk profile of individual institutions and systemic risk among groups of institutions and the industry as a whole. Except for selected items, these information collections are not given confidential treatment.

Current Action:

OTS last revised the form and content of the TFR in a manner that significantly affected a substantial percentage of institutions in March 2007. During the past year OTS has evaluated its ongoing information needs. OTS recognizes that the TFR imposes reporting requirements, which are a component of the regulatory burden facing institutions. Another contributor to this regulatory burden is the examination process, particularly on-site examinations during which institution staff spends time and effort responding to inquiries and requests for information designed to assist examiners in evaluating the condition and risk profile of the institution. The amount of attention that examiners direct to risk areas of the institution under examination is, in large part, determined from TFR data. These data, and analytical reports including the Uniform Thrift Performance Report, assist examiners in scoping and making their preliminary assessments of risks during the planning phase of the examination.

A risk-focused review of the information from an institution's TFR allows examiners to make preliminary risk assessments prior to onsite work. The degree of perceived risk determines the extent of the examination procedures that examiners initially plan for each risk area. If the outcome of these procedures reveals a higher level of risk in a particular area, the examiner adjusts the examination scope and procedures accordingly.

TFR data are also a vital source of information for the monitoring and regulatory activities of OTS. Among their benefits, these activities aid in determining whether the frequency of an institution's examination cycle should remain at maximum allowed time intervals, thereby lessening overall regulatory burden. More risk-focused TFR data enhance the ability of OTS to assess whether an institution is experiencing changes in its risk profile that warrant immediate follow-up, which may include accelerating the timing of an on-site examination.

The FDIC is considering proposing an adjustment to the risk-based assessment system so that insured depository institutions with greater amounts of general unsecured long-term liabilities will be rewarded with a lower assessment rate. Currently, the TFR lacks information regarding the remaining maturities of unsecured “other borrowings” and subordinated notes and debentures. Therefore, OTS proposes to collect this information in the TFR so that the FDIC would be able to implement such an adjustment. More specifically, thrifts would report separate maturity distributions for “other borrowings” that are unsecured and for subordinated notes and debentures. The maturity distributions would include remaining maturities of one year or less, and over one year.

In developing this proposal, OTS considered a range of potential information needs, particularly in the areas of credit risk, liquidity, and liabilities, and identified those additions to the TFR that are most critical and relevant to OTS in fulfilling its supervisory responsibilities. At the same time, OTS has identified certain existing TFR line items that are no longer sufficiently critical or useful to warrant their continued collection. OTS recognizes that the reporting burden that would result from the addition to the TFR of the new items discussed in this proposal would not be fully offset by the proposed elimination of, or establishment of reporting thresholds for, a limited number of other TFR items, thereby resulting in a net increase in reporting burden. Nevertheless, when viewing these proposed revisions to the TFR within a larger context, they help to enhance the on- and off-site supervision capabilities of OTS, which assist with controlling the overall regulatory burden on institutions.

Thus, OTS is requesting comment on the following proposed revisions to the TFR that would be implemented on a phased-in basis over 2009. The proposed TFR changes that would take effect as of March 31, 2009, would eliminate one line item, revise the captions for seven existing items, add four new items, and eliminate confidential treatment of fiduciary income, expense, and loss data in Schedule FS and data in Schedule HC.

The proposed TFR changes that would take effect as of June 30, 2009, would eliminate two existing items, revise two existing items, add 77 new items, add six new reporting codes in Schedule CMR, and add four new questions to Schedule SI on whether a thrift is a trustee or custodian for certain types of accounts or provides certain services in connection with orders for securities transactions regardless of whether the thrift exercises trust powers.

The proposed TFR revisions that would take effect December 31, 2009, would eliminate the entire Schedule CSS from the TFR, would add 75 new line items for assets and liabilities measured at fair value on a recurring basis in a new Schedule FV—Consolidated Assets and Liabilities Measured at Fair Value on a Recurring Basis for thrifts with total assets greater than $10 billion, and would revise Schedule FS—Fiduciary and Related Services by revising 14 existing line items and adding 68 new line items.

For each of the proposed revisions of existing items or proposed new items, OTS is particularly interested in comments from institutions on whether the information that is proposed to be collected is readily available from existing institution records. OTS also invites comment on whether there are particular proposed revisions for which the new data would be of limited relevance for purposes of assessing risks in a specific segment of the savings association industry. In such cases, OTS requests comments on what criteria, e.g., an asset size threshold or some other measure, we should establish for identifying the specific segment of the savings association industry that we should require to report the proposed information. Finally, OTS seeks comment on whether, for a particular proposed revision, there is an alternative information set that could satisfy OTS data needs and be less burdensome for institutions to report than the new or revised items that OTS has proposed. OTS will consider all of the comments it receives as it formulates a final set of revisions to the TFR for implementation in 2009.

A. Burden-Reducing Revision

1. Eliminating Schedule CSS—Subordinate Organization Schedule;

2. Eliminating line SI805, Sell private-label/third-party mutual funds/annuities?;

3. Eliminating line SI860, Fee Income from the Sale/Servicing of Mutual Funds/Annuities; and

4. Eliminating line CCR190, Minority Interest in Includable Subsidiaries.

B. Revisions of Existing Items

1. Revising the caption of line SC800 from “Minority Interest” to “Noncontrolling Interest in Consolidated Subsidiaries”, and moving this line to the Equity Capital section of Schedule SC;

2. Revising the caption of line SC80 from “Total Equity Capital” to “Equity Capital Attributable to Noncontrolling Interest”;

3. Revising the caption of line SC90 from “Total Liabilities, Minority Interest, and Equity Capital” to “Total Liabilities and Equity Capital;

4. Revising the caption of line SO91 from “Net Income (Loss)” to “Net Income or Loss Attributable to Controlling Interest”;

5. Revising the caption for line SO430 from “Noninterest Income—Net Income (Loss) from Other—Sale of Assets Held for Sale and Available-for-Sale Securities” to Noninterest Income—Net Income (Loss) from Other—Sale of Available-for-Sale Securities”;

B. Revising the caption for line FS260 from “Investment Management Agency Accounts—Amount of Managed Assets” to “Investment Management and Investment Advisory Accounts—Amount of Managed Assets”;

6. Revising the caption for line FS262 from “Investment Management Agency Accounts—Number of Managed Accounts” to “Investment Management and Investment Advisory Accounts—Number of Managed Accounts”;

7. Revising the caption for line FS360 from “Investment Management Agency Accounts” to “Investment Management & Investment Advisory Accounts”;

8. Revising line FS410 to Noninterest-Bearing Deposits—Personal Trust and Agency, Investment Management Agency Accounts;

9. Revising line FS415 to Interest-Bearing Deposits—Personal Trust and Agency, Investment Management Agency Accounts;

10. Revising line FS420 to U.S. Treasury and U.S. Government Agency Obligations—Personal Trust and Agency, Investment Management Agency Accounts;

11. Revising line FS425 to State, County, and Municipal Obligations—Personal Trust and Agency, Investment Management Agency Accounts;

12. Revising line FS430 to Common Trust Funds and Collective Investment Funds—Personal Trust and Agency, Investment Management Agency Accounts;

13. Revising line FS435 to Mutual Funds—Equity—Employee Benefit and Other Individual Retirement Accounts;

14. Revising line FS440 to Mutual Funds—Money Market—All Other Accounts;

15. Revising line FS445 to Mutual Funds—Other—Total;

16. Revising line FS450 to Short-Term Obligations—Personal Trust and Agency, Investment Management Agency Accounts;

17. Revising line FS455 to Other Notes and Bonds—Personal Trust and Agency, Investment Management Agency Accounts;

18. Revising line FS460 to Common and Preferred Stocks—Personal Trust and Agency, Investment Management Agency Accounts;

19. Revising the caption of line HC620 from “Consolidated—Minority Interest” to “Consolidated—Noncontrolling Interest in Consolidated Subsidiaries”;

20. Revising the caption of line HC640 from “Consolidated—Net Income for the Quarter” to “Consolidated—Net Income or Loss Attributable to Controlling Interest”;

21. Revising the language for question HC840 from “Is the holding company or any of its subsidiaries regulated by a foreign financial services regulator?” to “Is the holding company or any of its affiliates conducting operations outside of the U.S. through a foreign branch or subsidiary?”; and

22. Revising the caption of line CCR105 from “Investments in and Advances to Nonincludable Subsidiaries” to “Investments in, Advances to, and Noncontrolling Interest in Nonincludable Subsidiaries”.

C. New Items

1. Adding a line, SC84, Total Equity Capital;

2. Adding a line, SO431, Noninterest Income—Net Income (Loss) from Other—Sale of Loans and Leases Held for Sale;

3. Adding a line, SO432, Noninterest Income—Net Income (Loss) from Other—Sale of Other Assets Held for Sale;

4. Adding a line, SO440, “Other-than-Temporary Impairment Charges on Debt and Equity Securities”;

5. Adding a line, SO99, “Net Income or Loss—Total”;

6. Adding a line, SO93, “Net Income or Loss Attributable to Noncontrolling Interest”;

7. Adding a line, VA979, Credit Card Charge-Offs Related to Accrued Interest;

8. Adding a line, PD40, Total Loans in Process of Foreclosure;

9. Adding a line, PD415, Construction Loans in Process of Foreclosure;

10. Adding a line, PD421, 1-4 Dwelling Units Secured by Revolving Open-End Loans in Process of Foreclosure;

11. Adding a line, PD423, 1-4 Dwelling Units Secured by First Liens in Process of Foreclosure;

12. Adding a line, PD424, 1-4 Dwelling Units Secured by Junior Liens in Process of Foreclosure;

13. Adding a line, PD425, Multifamily (5 or more) Dwelling Units in Process of Foreclosure;

14. Adding a line, PD435, Nonresidential Property (Except Land) in Process of Foreclosure;

15. Adding a line PD438, Land Loans in Process of Foreclosure;

16. Adding a line, LD111, High Loan-to-Value Loans Secured by Multifamily Properties without PMI or Government Guarantee: Balances at Quarter-End: 90% up to 100% LTV;

17. Adding a line, LD121, High Loan-to-Value Loans Secured by Multifamily Properties without PMI or Government Guarantee: Balances at Quarter-End: 100% and greater LTV;

18. Adding a line, LD211, High Loan-to-Value Loans Secured by Multifamily Properties without PMI or Government Guarantee: Past Due and Nonaccrual Balances: Past Due and Still Accruing: 30-89 Days: 90% up to 100% LTV;

19. Adding a line, LD221, High Loan-to-Value Loans Secured by Multifamily Properties without PMI or Government Guarantee: Past Due and Nonaccrual Balances: Past Due and Still Accruing: 30-89 Days: 100% and greater LTV;

20. Adding a line, LD231, High Loan-to-Value Loans Secured by Multifamily Properties without PMI or Government Guarantee: Past Due and Nonaccrual Balances: Past Due and Still Accruing: 90 Days or More: 90% up to 100% LTV;

21. Adding a line, LD241, High Loan-to-Value Loans Secured by Multifamily Properties without PMI or Government Guarantee: Past Due and Nonaccrual Balances: Past Due and Still Accruing: 90 Days or More: 100% and greater LTV;

22. Adding a line, LD251, High Loan-to-Value Loans Secured by Multifamily Properties without PMI or Government Guarantee: Past Due and Nonaccrual Balances: Nonaccrual: 90% up to 100% LTV;

23. Adding a line, LD261, High Loan-to-Value Loans Secured by Multifamily Properties without PMI or Government Guarantee: Past Due and Nonaccrual Balances: Nonaccrual: 100% and greater LTV;

24. Adding a line, LD311, High Loan-to-Value Loans Secured by Multifamily Properties without PMI or Government Guarantee: Charge-offs and Recoveries: Net Charge-offs (including Specific Valuation Allowance Provisions & Transfers from General to Specific Allowances): 90% up to 100% LTV;

25. Adding a line, LD321, High Loan-to-Value Loans Secured by Multifamily Properties without PMI or Government Guarantee: Charge-offs and Recoveries: Net Charge-offs (including Specific Valuation Allowance Provisions & Transfers From General to Specific Allowances): 100% and greater LTV;

26. Adding a line, LD411, High Loan-to-Value Loans Secured by Multifamily Properties without PMI or Government Guarantee: Purchases: 90% up to 100% LTV;

27. Adding a line, LD421, High Loan-to-Value Loans Secured by Multifamily Properties without PMI or Government Guarantee: Purchases: 100% and greater LTV;

28. Adding a line, LD431, High Loan-to-Value Loans Secured by Multifamily Properties without PMI or Government Guarantee: Originations: 90% up to 100% LTV;

29. Adding a line, LD441, High Loan-to-Value Loans Secured by Multifamily Properties without PMI or Government Guarantee: Originations: 100% and greater LTV;

30. Adding a line, LD451, High Loan-to-Value Loans Secured by Multifamily Properties without PMI or Government Guarantee: Sales: 90% up to 100% LTV;

31. Adding a line, LD461, High Loan-to-Value Loans Secured by Multifamily Properties without PMI or Government Guarantee: Sales: 100% and greater LTV;

32. Adding a line, LD710, Construction Loans on 1-4 Dwelling Units with Capitalized Interest;

33. Adding a line, LD715, Capitalized Interest on Construction Loans on 1-4 Dwelling Units Included in Current Quarter Income;

34. Adding a line, LD720, Construction Loans on Multifamily (5 or More) Dwelling Units with Capitalized Interest;

35. Adding a line, LD725, Capitalized Interest on Construction Loans on Multifamily (5 or More) Dwelling Units Included in Current Quarter Income;

36. Adding a line, LD730, Construction Loans on Nonresidential Property (Except Land) with Capitalized Interest;

37. Adding a line, LD735, Capitalized Interest on Construction Loans on Nonresidential Property (Except Land) Included in Current Quarter Income;

38. Adding a line, CC469, Amount of Recourse Obligations on Loans in CC468 where Recourse Limited to 120 Days or Less;

39. Adding a line, CC471, Amount of Recourse Obligations on Loans in CC468 where Recourse Extends Beyond 120 Days;

40. Adding a line, CF365, Memo—Loans Sold with Recourse of 120 Days or Less;

41. Adding a line, CF366, Memo—Loans Sold with Recourse Greater Than 120 Days;

42. Adding a line, DI230, Deposits Gathered through CDARS;

43. Adding a line, DI630, Unsecured Federal Funds Purchased;

44. Adding a line, DI635, Secured Federal Funds Purchased;

45. Adding a line, DI641, Securities Sold Under Agreements to Repurchase;

46. Adding a line, DI645, Unsecured “Other Borrowings”—With a Remaining Maturity of One Year or Less;

47. Adding a line, DI651, Unsecured “Other Borrowings”—With a Remaining Maturity of Over One Year;

48. Adding a line, DI655, Subordinated Debentures—With a Remaining Maturity of One Year or Less;

49. Adding a line, DI660, Subordinated Debentures—With a Remaining Maturity of Over One Year;

50. Adding a line, SI394, Pledged Loans;

51. Adding a line, SI395, Pledged Securities;

52. Adding a question SI901, “Does the institution, without trust powers, act as trustee or custodian for Individual Health Savings Accounts, and other similar accounts that are invested in non-deposit products?”;

53. Adding a question SI905, “Does the institution provide custody, safekeeping or other services involving the acceptance of orders for the sale or purchase of securities?”;

54. Adding a question SI911, “Does the institution engage in third party broker arrangements, commonly referred to as “networking”, to sell securities products or services to thrift customers?”; and

55. Adding a question SI915, “Does the institution sweep deposit funds into any open-end investment management company registered under the Investment Company Act of 1940 that holds itself out as a money market fund?”.

The following additions to the TFR are proposed for collection through a new Schedule FV that would be required from thrifts with total assets greater than $10 billion:

56. Adding a line, FV110, Federal Funds Sold and Securities Purchased Under Agreements to Resell—Total Fair Value Reported;

57. Adding a line, FV111, Federal Funds Sold and Securities Purchased Under Agreements to Resell—Amounts Netted in the Determination of Fair Value;

58. Adding a line, FV112, Federal Funds Sold and Securities Purchased Under Agreements to Resell—Level 1 Fair Value Measurements;

59. Adding a line, FV113, Federal Funds Sold and Securities Purchased Under Agreements to Resell—Level 2 Fair Value Measurements;

60. Adding a line, FV114, Federal Funds Sold and Securities Purchased Under Agreements to Resell—Level 3 Fair Value Measurements;

61. Adding a line, FV120, Trading Securities—Total Fair Value Reported;

62. Adding a line, FV121, Trading Securities—Amounts Netted in the Determination of Fair Value;

63. Adding a line, FV122, Trading Securities—Level 1 Fair Value Measurements;

64. Adding a line, FV123, Trading Securities—Level 2 Fair Value Measurements;

65. Adding a line, FV124, Trading Securities—Level 3 Fair Value Measurements;

66. Adding a line, FV130, Available-for-Sale Securities—Total Fair Value Reported;

67. Adding a line, FV131, Available-for-Sale Securities—Amounts Netted in the Determination of Fair Value;

68. Adding a line, FV132, Available-for-Sale Securities—Level 1 Fair Value Measurements;

69. Adding a line, FV133, Available-for-Sale Securities—Level 2 Fair Value Measurements;

70. Adding a line, FV134, Available-for-Sale Securities—Level 3 Fair Value Measurements;

71. Adding a line, FV210, Loans and Leases—Total Fair Value Reported;

72. Adding a line, FV211, Loans and Leases—Amounts Netted in the Determination of Fair Value;

73. Adding a line, FV212, Loans and Leases—Level 1 Fair Value Measurements;

74. Adding a line, FV213, Loans and Leases—Level 2 Fair Value Measurements;

75. Adding a line, FV214, Loans and Leases—Level 3 Fair Value Measurements;

76. Adding a line, FV240, Mortgage Servicing Rights—Total Fair Value Reported;

77. Adding a line, FV241, Mortgage Servicing Rights—Amounts Netted in the Determination of Fair Value;

78. Adding a line, FV242, Mortgage Servicing Rights—Level 1 Fair Value Measurements;

79. Adding a line, FV243, Mortgage Servicing Rights—Level 2 Fair Value Measurements;

80. Adding a line, FV244, Mortgage Servicing Rights—Level 3 Fair Value Measurements;

81. Adding a line, FV250, Derivative Assets—Total Fair Value Reported;

82. Adding a line, FV251, Derivative Assets—Amounts Netted in the Determination of Fair Value;

83. Adding a line, FV252, Derivative Assets—Level 1 Fair Value Measurements;

84. Adding a line, FV253, Derivative Assets—Level 2 Fair Value Measurements;

85. Adding a line, FV254, Derivative Assets—Level 3 Fair Value Measurements;

86. Adding a line, FV310, All Other Financial Assets—Total Fair Value Reported;

87. Adding a line, FV311, All Other Financial Assets—Amounts Netted in the Determination of Fair Value;

88. Adding a line, FV312, All Other Financial Assets—Level 1 Fair Value Measurements;

89. Adding a line, FV313, All Other Financial Assets—Level 2 Fair Value Measurements;

90. Adding a line, FV314, All Other Financial Assets—Level 3 Fair Value Measurements;

91. Adding a line, FV360, Total Assets Measured at Fair Value on a Recurring Basis—Total Fair Value Reported;

92. Adding a line, FV361, Total Assets Measured at Fair Value on a Recurring Basis—Amounts Netted in the Determination of Fair Value;

93. Adding a line, FV362, Total Assets Measured at Fair Value on a Recurring Basis—Level 1 Fair Value Measurements;

94. Adding a line, FV363, Total Assets Measured at Fair Value on a Recurring Basis—Level 2 Fair Value Measurements;

95. Adding a line, FV364, Total Assets Measured at Fair Value on a Recurring Basis—Level 3 Fair Value Measurements;

96. Adding a line, FV410, Federal Funds Purchased and Securities Sold Under Agreements to Repurchase—Total Fair Value Reported;

97. Adding a line, FV411, Federal Funds Purchased and Securities Sold Under Agreements to Repurchase—Amounts Netted in the Determination of Fair Value;

98. Adding a line, FV412, Federal Funds Purchased and Securities Sold Under Agreements to Repurchase—Level 1 Fair Value Measurements;

99. Adding a line, FV413, Federal Funds Purchased and Securities Sold Under Agreements to Repurchase—Level 2 Fair Value Measurements;

100. Adding a line, FV414, Federal Funds Purchased and Securities Sold Under Agreements to Repurchase—Level 3 Fair Value Measurements;

101. Adding a line, FV420, Deposits—Total Fair Value Reported;

102. Adding a line, FV421, Deposits—Amounts Netted in the Determination of Fair Value;

103. Adding a line, FV422, Deposits—Level 1 Fair Value Measurements;

104. Adding a line, FV423, Deposits—Level 2 Fair Value Measurements;

105. Adding a line, FV424, Deposits—Level 3 Fair Value Measurements;

106. Adding a line, FV440, Subordinated Debentures—Total Fair Value Reported;

107. Adding a line, FV441, Subordinated Debentures—Amounts Netted in the Determination of Fair Value;

108. Adding a line, FV442, Subordinated Debentures—Level 1 Fair Value Measurements;

109. Adding a line, FV443, Subordinated Debentures—Level 2 Fair Value Measurements;

110. Adding a line, FV444, Subordinated Debentures—Level 3 Fair Value Measurements;

111. Adding a line, FV460, Other Borrowings—Total Fair Value Reported;

112. Adding a line, FV461, Other Borrowings—Amounts Netted in the Determination of Fair Value;

113. Adding a line, FV462, Other Borrowings—Level 1 Fair Value Measurements;

114. Adding a line, FV463, Other Borrowings—Level 2 Fair Value Measurements;

115. Adding a line, FV464, Other Borrowings—Level 3 Fair Value Measurements;

116. Adding a line, FV470, Derivative Liabilities—Total Fair Value Reported;

117. Adding a line, FV471, Derivative Liabilities—Amounts Netted in the Determination of Fair Value;

118. Adding a line, FV472, Derivative Liabilities—Level 1 Fair Value Measurements;

119. Adding a line, FV473, Derivative Liabilities—Level 2 Fair Value Measurements;

120. Adding a line, FV474, Derivative Liabilities—Level 3 Fair Value Measurements;

121. Adding a line, FV490, All Other Financial Liabilities—Total Fair Value Reported;

122. Adding a line, FV491, All Other Financial Liabilities—Amounts Netted in the Determination of Fair Value;

123. Adding a line, FV492, All Other Financial Liabilities—Level 1 Fair Value Measurements;

124. Adding a line, FV493, All Other Financial Liabilities—Level 2 Fair Value Measurements;

125. Adding a line, FV494, All Other Financial Liabilities—Level 3 Fair Value Measurements;

126. Adding a line, FV510, Total Liabilities Measured at Fair Value on a Recurring Basis—Total Fair Value Reported;

127. Adding a line, FV511, Total Liabilities Measured at Fair Value on a Recurring Basis—Amounts Netted in the Determination of Fair Value;

128. Adding a line, FV512, Total Liabilities Measured at Fair Value on a Recurring Basis—Level 1 Fair Value Measurements;

129. Adding a line, FV513, Total Liabilities Measured at Fair Value on a Recurring Basis—Level 2 Fair Value Measurements;

130. Adding a line, FV514, Total Liabilities Measured at Fair Value on a Recurring Basis—Level 3 Fair Value Measurements;

131. Adding a line, FS234, IRAs, HSAs, and Similar Accounts—Amount of Managed Assets;

132. Adding a line, FS235, IRAs, HSAs, and Similar Accounts—Amount of Nonmanaged Assets;

133. Adding a line, FS236, IRAs, HSAs, and Similar Accounts—Number of Managed Accounts;

134. Adding a line, FS237, IRAs, HSAs, and Similar Accounts—Number of Nonmanaged Accounts;

135. Adding a line, FS261, Investment Management and Investment Advisory Accounts—Amount of Nonmanaged Assets;

136. Adding a line, FS263, Investment Management and Investment Advisory Accounts—Number of Nonmanaged Accounts;

137. Adding a line, FS264, Foundations and Endowments—Amount of Managed Assets;

138. Adding a line, FS265, Foundations and Endowments—Amount of Nonmanaged Assets;

139. Adding a line, FS266, Foundations and Endowments—Number of Managed Accounts;

140. Adding a line, FS267, Foundations and Endowments—Number of Nonmanaged Accounts;

141. Adding a line, FS335, Fiduciary and Related Services Income—IRAs, HSAs, and Similar Accounts;

142. Adding a line, FS411, Noninterest-Bearing Deposits—Employee Benefit and Other Individual Retirement Accounts;

143. Adding a line, FS412, Noninterest-Bearing Deposits—All Other Accounts;

144. Adding a line, FS413, Noninterest-Bearing Deposits—Total;

145. Adding a line, FS416, Interest-Bearing Deposits—Employee Benefit and Other Individual Retirement Accounts;

146. Adding a line, FS417, Interest-Bearing Deposits—All Other Accounts;

147. Adding a line, FS418, Interest-Bearing Deposits—Total;

148. Adding a line, FS421, U.S. Treasury and U.S. Government Agency Obligations—Employee Benefit and Other Individual Retirement Accounts;

149. Adding a line, FS422, U.S. Treasury and U.S. Government Agency Obligations—All Other Accounts;

150. Adding a line, FS423, U.S. Treasury and U.S. Government Agency Obligations—Total;

151. Adding a line, FS426, State, County, and Municipal Obligations—Employee Benefit and Other Individual Retirement Accounts;

152. Adding a line, FS427, State, County, and Municipal Obligations—All Other Accounts;

153. Adding a line, FS428, State, County, and Municipal Obligations—Total;

154. Adding a line, FS431, Common Trust Funds and Collective Investment Funds—Employee Benefit and Other Individual Retirement Accounts;

155. Adding a line, FS432, Common Trust Funds and Collective Investment Funds—All Other Accounts;

156. Adding a line, FS433, Common Trust Funds and Collective Investment Funds—Total;

157. Adding a line, FS434, Mutual Funds—Equity—Personal Trust and Agency, Investment Management Agency Accounts;

158. Adding a line, FS436, Mutual Funds—Equity—All Other Accounts;

159. Adding a line, FS437, Mutual Funds—Equity—Total;

160. Adding a line, FS438, Mutual Funds—Money Market—Personal Trust and Agency, Investment Management Agency Accounts;

161. Adding a line, FS439, Mutual Funds—Money Market—Employee Benefit and Other Individual Retirement Accounts;

162. Adding a line, FS441, Mutual Funds—Money Market—Total;

163. Adding a line, FS442, Mutual Funds—Other—Personal Trust and Agency, Investment Management Agency Accounts;

164. Adding a line, FS443, Mutual Funds—Other—Employee Benefit and Other Individual Retirement Accounts;

165. Adding a line, FS444, Mutual Funds—Other—All Other Accounts;

166. Adding a line, FS451, Short-Term Obligations—Employee Benefit and Other Individual Retirement Accounts;

167. Adding a line, FS452, Short-Term Obligations—All Other Accounts;

168. Adding a line, FS453, Short-Term Obligations—Total;

169. Adding a line, FS456, Other Notes and Bonds—Employee Benefit and Other Individual Retirement Accounts;

170. Adding a line, FS457, Other Notes and Bonds—All Other Accounts;

171. Adding a line, FS458, Other Notes and Bonds—Total;

172. Adding a line, FS461, Common and Preferred Stocks—Employee Benefit and Other Individual Retirement Accounts;

173. Adding a line, FS462, Common and Preferred Stocks—All Other Accounts;

174. Adding a line, FS463, Common and Preferred Stocks—Total;

175. Adding a line, FS465, Real Estate Mortgages—Personal Trust and Agency, Investment Management Agency Accounts;

176. Adding a line, FS466, Real Estate Mortgages—Employee Benefit and Other Individual Retirement Accounts;

177. Adding a line, FS467, Real Estate Mortgages—All Other Accounts;

178. Adding a line, FS468, Real Estate Mortgages—Total;

179. Adding a line, FS470, Real Estate—Personal Trust and Agency, Investment Management Agency Accounts;

180. Adding a line, FS471, Real Estate—Employee Benefit and Other Individual Retirement Accounts;

181. Adding a line, FS472, Real Estate—All Other Accounts;

182. Adding a line, FS473, Real Estate—Total;

183. Adding a line, FS475, Miscellaneous Assets—Personal Trust and Agency, Investment Management Agency Accounts;

184. Adding a line, FS476, Miscellaneous Assets—Employee Benefit and Other Individual Retirement Accounts;

185. Adding a line, FS477, Miscellaneous Assets—All Other Accounts;

186. Adding a line, FS478, Miscellaneous Assets—Total;

187. Adding a line, FS480, Investments in Unregistered Funds and Private Equity Investments—Personal Trust and Agency, Investment Management Agency Accounts;

188. Adding a line, FS481, Investments in Unregistered Funds and Private Equity Investments—Employee Benefit and Other Individual Retirement Accounts;

189. Adding a line, FS482, Investments in Unregistered Funds and Private Equity Investments—All Other Accounts;

190. Adding a line, FS483, Investments in Unregistered Funds and Private Equity Investments—Total;

191. Adding a line, FS490, Total Managed Assets—Personal Trust and Agency, Investment Management Agency Accounts;

192. Adding a line, FS491, Total Managed Assets—Employee Benefit and Other Individual Retirement Accounts;

193. Adding a line, FS492, Total Managed Assets—All Other Accounts;

194. Adding a line, FS493, Total Managed Assets—Total;

195. Adding a line, FS495, Investments of Managed Fiduciary Accounts in Advised or Sponsored Mutual Funds—Market Value of Discretionary Investments in Proprietary Mutual Funds;

196. Adding a line, FS496, Investments of Managed Fiduciary Accounts in Advised or Sponsored Mutual Funds—Number of Managed Assets Holding Investments in Proprietary Mutual Funds;

197. Adding a line, FS516, Corporate and Municipal Trusteeships—Issues Reported in FS520 and FS515 that are in Default—Number of Issues;

198. Adding a line, FS517, Corporate and Municipal Trusteeships—Issues Reported in FS520 and FS515 that are in Default—Principal Amount Outstanding;

199. Adding a line, HC221, Parent Only Perpetual Preferred Stock: Cumulative;

200. Adding a line, HC222, Parent Only Perpetual Preferred Stock: Noncumulative;

201. Adding a line, HC223, Parent Only Common Stock: Par Value;

202. Adding a line, HC224, Parent Only Common Stock: Paid in Excess of Par;

203. Adding a line, HC225, Parent Only Accumulated Other Comprehensive Income: Unrealized Gains (Losses) on Available-for-Sale Securities;

204. Adding a line, HC226, Parent Only Accumulated Other Comprehensive Income: Gains (Losses) on Cash Flow Hedges;

205. Adding a line, HC227, Parent Only Accumulated Other Comprehensive Income: Other;

206. Adding a line, HC228, Parent Only Retained Earnings;

207. Adding a line, HC229, Parent Only Other Components of Equity Capital;

208. Adding a line, HC301, Parent Only Cash, Deposits, and Investment Securities;

209. Adding a line, HC505, Parent Only Interest Income;

210. Adding a line, HC509, Parent Only Total Income;

211. Adding a line, HC570, Parent Only Total Expense;

212. Adding a line, HC571, Parent Only Total Income Taxes;

213. Adding a line, HC575, Parent Only Dividends Paid;

214. Adding a line, HC601, Consolidated Cash, Deposits, and Investment Securities;

215. Adding a line, HC621, Consolidated Perpetual Preferred Stock: Cumulative;

216. Adding a line, HC622, Consolidated Perpetual Preferred Stock: Noncumulative;

217. Adding a line, HC623, Consolidated Common Stock: Par Value;

218. Adding a line, HC624, Consolidated Common Stock: Paid in Excess of Par;

219. Adding a line, HC625, Consolidated Accumulated Other Comprehensive Income: Unrealized Gains (Losses) on Available-for-Sale Securities;

220. Adding a line, HC626, Consolidated Accumulated Other Comprehensive Income: Gains (Losses) on Cash Flow Hedges;

221. Adding a line, HC627, Consolidated Accumulated Other Comprehensive Income: Other;

222. Adding a line, HC628, Consolidated Only Retained Earnings;

223. Adding a line, HC629, Consolidated Only Other Components of Equity Capital. >224. Adding a line, HC705, Consolidated Interest Income;

225. Adding a line, HC709, Consolidated Total Income;

226. Adding a line, HC770, Consolidated Total Expense;

227. Adding a line, HC771, Consolidated Total Income Taxes;

228. Adding a line, HC775, Consolidated Dividends Paid;

229. Adding a new code to Schedule CMR, Miscellaneous: Collateralized Debt Obligations: Carrying Value;

230. Adding a new code to Schedule CMR, Miscellaneous: Collateralized Debt Obligations: Market Value;

231. Adding a new code to Schedule CMR, Miscellaneous: Collateralized Loan Obligations: Carrying Value; >232. Adding a new code to Schedule CMR, Miscellaneous: Collateralized Loan Obligations: Market Value;

233. Adding a new code to Schedule CMR, Miscellaneous: Commercial Mortgage-Backed Securities: Carrying Value; and

234. Adding a new code to Schedule CMR, Miscellaneous: Commercial Mortgage-Backed Securities: Market Value.

D. Eliminating Confidential Treatment of Schedule FS and Schedule HC Data

The specific wording of the captions for the new and revised TFR items discussed in this proposal and the numbering of these items in the report is preliminary.

II. Discussion of Revisions Proposed for March 2009

A. Backgound

In December 2007, the Financial Accounting Standards Board issued Statement of Financial Accounting Standards No. 160, “Noncontrolling Interests in Consolidated Financial Statements” (FAS 160). Under this Statement, a noncontrolling interest, formerly referred to as a minority interest, is that portion of total stockholders' equity and total net income or loss that is not attributable, directly or indirectly, to the parent; that is, to the controlling interest. FAS 160 changes the placement of the noncontrolling interest on the balance sheet and income statement. For savings associations and holding companies with a calendar year-end, the Statement becomes effective in the first quarter of 2009. Accordingly, OTS proposes to make certain changes to Schedules SC, SO, HC, and CCR.

B. Elimination of Existing Items

1. As a result of the issuance of FAS 160 (see Background above), OTS proposes to eliminate line CCR190, Minority Interest in Includable Subsidiaries.

C. Revision of Existing Items

1. As a result of the issuance of FAS 160 (see Background above), OTS proposes to revise the captions of lines SC800, Minority Interest, SC80, Total Equity Capital, SC90, Total Liabilities, Minority Interest, and Equity Capital, SO 91, Net Income (Loss), HC620, Minority Interest, HC640, Net Income for the Quarter, and CCR105, Minority Interest in Nonincludable Subsidiaries.

D. New Items

1. As a result of the issuance of FAS 160 (see Background above), OTS proposes to add lines SC84, Total Equity Capital, SO99, Net Income or Loss—Total, and SO93, Net Income or Loss Attributable to Noncontrolling Interest.

2. To separately capture impairment charges on debt and equity securities, OTS proposes to add line SO440, Other-than-Temporary Impairment Charges on Debt and Equity Securities.

E. Eliminating Confidential Treatment of Schedule FS and Schedule HC Data

An important public policy issue for the federal banking regulatory agencies has been how to use market discipline to complement supervisory resources. Market discipline relies on market participants having sufficient appropriate information about the financial condition and risks of banks, thrifts, and their holding companies. The TFR is widely used by securities analysts, rating agencies, and large institutional investors as sources of thrift-specific data. Disclosure that increases transparency should lead to more accurate market assessments of individual banks' performance and risks. This, in turn, should result in more effective market discipline on thrifts.

Despite this emphasis on market discipline, OTS currently accords confidential treatment to the information that certain institutions report in Schedule FS—Fiduciary and Related Services, on fiduciary and related services income, expenses, and losses reported on lines FS310 through FS393, FS30, and FS35; and on fiduciary settlements, surcharges, and other losses reported on lines FS710 through FS742, FS70, FS71, and FS72. OTS also accords confidential treatment to all of the information that certain institutions report in Schedule HC—Thrift Holding Company.

1. Eliminating Confidential Treatment of Schedule FS Data

Data on fiduciary and related services income, expenses, and losses is treated as confidential on an individual institution basis. Nevertheless, OTS publishes aggregate data derived from these confidential items. OTS does not preclude institutions from publicly disclosing the fiduciary and related services income, expense, and loss data that the agencies treat as confidential.

In addition, under the Uniform Interagency Trust Rating System, the agencies assign a rating to the earnings of an institution's fiduciary activities at those institutions with fiduciary assets of more than $100 million, which are also the institutions that report their fiduciary and related services income, expenses, and losses in Call Report Schedule RC-T. The agencies' evaluation of an institution's trust earnings considers such factors as the profitability of fiduciary activities in relation to the size and scope of those activities and the institution's overall business, taking this into account by functions and product lines. Although the agencies' ratings for individual institutions are not publicly available, the reason for rating the trust earnings of institutions with more than $100 million in fiduciary assets—its effect on the financial condition of the institution—means that fiduciary and related services income, expenses, and losses information for these institutions is also relevant to market participants and others in the public as they seek to evaluate the financial condition and performance of individual institutions. Increasing the transparency of institutions' fiduciary activities by making individual institutions' fiduciary income, expense, and loss data available to the public should improve the market's ability to assess these institutions' performance and risks and thereby enhance market discipline. Accordingly, the agencies are proposing to eliminate the confidential treatment for the data on fiduciary and related services income, expenses, and losses that are reported in Schedule RC-T beginning with the amounts reported as of March 31, 2009.

2. Eliminating Confidential Treatment of Schedule HC Data

OTS is requesting comments on the continued confidential treatment of data filed by individual thrift holding companies on Schedule HC. OTS presently does not publicly release Schedule HC data filed by holding companies. However, many public requests are received for these data. In addition, some rating agencies have indicated thrift holding company debt ratings suffer due to the lack of publicly available data.

III. Discussion of Revisions Proposed for June 2009

A. Elimination of Existing Items:

1. Schedule SI—Consolidated Supplemental Information

OTS proposes to eliminate the following two line items from Schedule SI:

SI805, Sell private-label/third-party mutual funds/annuities; and

SI860—Fee Income from the Sale/Servicing of Mutual Funds/Annuities.

Line SI805 is a yes/no question regarding the sale of private label or third party mutual funds and annuities. Line SI860 reports the amount of fee income from the sale and servicing of mutual funds and annuities. Institutions that provided a yes response to line SI805 will now provide the same response to new line SI911. OTS believes the data reported in line SI860 can be collected independently of the TFR reporting system during the examination process.

B. Revisions of Existing Items:

1. Revising the caption for line SO430 from “Noninterest Income—Net Income (Loss) from Other—Sale of Assets Held for Sale and Available-for-Sale Securities” to Noninterest Income—Net Income (Loss) from Other—Sale of Available-for-Sale Securities” to separately report gains and losses on the sale of available-for-sale securities from gains and losses on loans and leases held for sale and on other assets held for sale. Gains and losses on loans and leases held for sale and on other assets held for sale would be reported in new lines SO431 and SO432 described below; and

2. Revising the language for question HC840 from “Is the holding company or any of its subsidiaries regulated by a foreign financial services regulator?” to “Is the holding company or any of its affiliates conducting operations outside of the U.S. through a foreign branch or subsidiary?” This line is being revised to more fully identify holding companies with foreign operations, including parallel banking operations. A parallel banking organization exists when at least one U.S. bank and one foreign financial institution are controlled either directly or indirectly by the same person or group of persons who are closely associated in their business dealings or otherwise acting together, but are not subject to consolidated supervision by a single home country supervisor. A foreign financial institution includes a holding company of the foreign bank and any U.S. or foreign affiliates of the foreign bank.

C. New Items

1. Noninterest Income

OTS proposes to add two lines related to gains and losses on the sale of loans and leases held for sale and on other assets held for sale:

SO431, Noninterest Income—Net Income (Loss) from Other—Sale of Loans and Leases Held for Sale; and

SO432, Noninterest Income—Net Income (Loss) from Other—Sale of Other Assets Held for Sale.

These new lines, in conjunction with the revised line SO430 described above, will allow thrifts to separately report gains and losses on the sale of available-for-sale securities, on loans and leases held for sale, and on other assets held for sale.

2. Credit Card Charge-Offs Related to Accrued Interest

OTS proposes to add a line, VA979, Credit Card Charge-Offs Related to Accrued Interest, to capture data on the amount of credit card charge-offs that are due to accrued interest. This change is being made at the request of the FDIC to improve their deposit insurance premium assessment process.

3. Loans in Process of Foreclosure

OTS proposes to add a series of eight lines to Schedule PD related to loans in the process of foreclosure:

PD40, Total Loans in Process of Foreclosure;

PD415, Construction Loans in Process of Foreclosure;

PD421, 1-4 Dwelling Units Secured by Revolving Open-End Loans in Process of Foreclosure;

PD423, 1-4 Dwelling Units Secured by First Liens in Process of Foreclosure;

PD424, 1-4 Dwelling Units Secured by Junior Liens in Process of Foreclosure;

PD425, Multifamily (5 or more) Dwelling Units in Process of Foreclosure;

PD435, Nonresidential Property (Except Land) in Process of Foreclosure; and

PD438, Land Loans in Process of Foreclosure.

OTS believes these new line items will provide additional detail on the various types of real estate loans in the process of foreclosure. With these new data items, OTS will be better able to monitor the asset quality and risk profiles of thrifts.

Thrifts would report total unpaid principal balance of loans secured by the various types of real estate for which formal foreclosure proceedings to seize the real estate collateral have started and are ongoing as of quarter-end, regardless of the date the foreclosure procedure was initiated. Loans would be classified as in process of foreclosure according to local requirements.

4. High Loan-to-Value Loans Secured by Multifamily Properties without PMI or Government Guarantee

OTS proposes to add a series of 16 lines to Schedule LD related to high loan-to-value loans secured by multifamily properties without private mortgage insurance (PMI) or government guarantee:

LD111, High Loan-to-Value Loans Secured by Multifamily Properties without PMI or Government Guarantee: Balances at Quarter-End: 90% up to 100% LTV;

LD121, High Loan-to-Value Loans Secured by Multifamily Properties without PMI or Government Guarantee: Balances at Quarter-End: 100% and greater LTV;

LD211, High Loan-to-Value Loans Secured by Multifamily Properties without PMI or Government Guarantee: Past Due and Nonaccrual Balances: Past Due and Still Accruing: 30-89 Days: 90% up to 100% LTV;

LD221, High Loan-to-Value Loans Secured by Multifamily Properties without PMI or Government Guarantee: Past Due and Nonaccrual Balances: Past Due and Still Accruing: 30-89 Days: 100% and greater LTV;

LD231, High Loan-to-Value Loans Secured by Multifamily Properties without PMI or Government Guarantee: Past Due and Nonaccrual Balances: Past Due and Still Accruing: 90 Days or More: 90% up to 100% LTV;

LD241, High Loan-to-Value Loans Secured by Multifamily Properties without PMI or Government Guarantee: Past Due and Nonaccrual Balances: Past Due and Still Accruing: 90 Days or More: 100% and greater LTV;

LD251, High Loan-to-Value Loans Secured by Multifamily Properties without PMI or Government Guarantee: Past Due and Nonaccrual Balances: Nonaccrual: 90% up to 100% LTV;

LD261, High Loan-to-Value Loans Secured by Multifamily Properties without PMI or Government Guarantee: Past Due and Nonaccrual Balances: Nonaccrual: 100% and greater LTV;

LD311, High Loan-to-Value Loans Secured by Multifamily Properties without PMI or Government Guarantee: Charge-offs and Recoveries: Net Charge-offs (including Specific Valuation Allowance Provisions & Transfers from General to Specific Allowances): 90% up to 100% LTV;

LD321, High Loan-to-Value Loans Secured by Multifamily Properties without PMI or Government Guarantee: Charge-offs and Recoveries: Net Charge-offs (including Specific Valuation Allowance Provisions & Transfers From General to Specific Allowances): 100% and greater LTV;

LD411, High Loan-to-Value Loans Secured by Multifamily Properties without PMI or Government Guarantee: Purchases: 90% up to 100% LTV;

LD421, High Loan-to-Value Loans Secured by Multifamily Properties without PMI or Government Guarantee: Purchases: 100% and greater LTV;

LD431, High Loan-to-Value Loans Secured by Multifamily Properties without PMI or Government Guarantee: Originations: 90% up to 100% LTV;

LD441, High Loan-to-Value Loans Secured by Multifamily Properties without PMI or Government Guarantee: Originations: 100% and greater LTV;

LD451, High Loan-to-Value Loans Secured by Multifamily Properties without PMI or Government Guarantee: Sales: 90% up to 100% LTV; and

LD461, High Loan-to-Value Loans Secured by Multifamily Properties without PMI or Government Guarantee: Sales: 100% and greater LTV.

OTS believes these new line items will provide additional detail on high loan-to-value loans secured by multifamily properties held by thrifts, including detail on delinquencies, nonaccruals, and net charge-offs, and data on such loans originated, purchased, or sold during the reporting period. With these new data items, OTS will be better able to monitor the risk profiles of thrifts with concentrations of high loan-to-value multifamily mortgage loans.

5. Construction Loans with Capitalized Interest

OTS proposes to add a series of six lines to Schedule LD related to construction loans with capitalized interest:

LD710, Construction Loans on 1-4 Dwelling Units with Capitalized Interest;

LD715, Capitalized Interest on Construction Loans on 1-4 Dwelling Units Included in Current Quarter Income;

LD720, Construction Loans on Multifamily (5 or More) Dwelling Units with Capitalized Interest;

LD725, Capitalized Interest on Construction Loans on Multifamily (5 or More) Dwelling Units Included in Current Quarter Income;

LD730, Construction Loans on Nonresidential Property (Except Land) with Capitalized Interest; and

LD735, Capitalized Interest on Construction Loans on Nonresidential Property (Except Land) Included in Current Quarter Income.

OTS believes these new line items will provide additional detail on the use of capitalized interest in connection with various types of construction loans. With these new data items, OTS will be better able to monitor the risk profiles of thrifts with concentrations of construction loans.

6. Recourse Obligations on Loans in Line CC468

OTS proposes to add two lines to Schedule CC related to recourse obligations on loans in CC468, Amount of Recourse Obligations on Assets in CC455 (Line CC455 is the Total Principal Amount of Assets Covered by Recourse Obligations or Direct Credit Substitutes):

CC469, Amount of Recourse Obligations on Loans in CC468 where Recourse Limited to 120 Days or Less; and

CC471, Amount of Recourse Obligations on Loans in CC468 where Recourse Extends Beyond 120 Days.

OTS believes these new line items will provide additional detail on the amount of assets with recourse obligations held by thrifts.

7. Loans Sold with Recourse

OTS proposes to add two lines to Schedule CF related to loans sold during the current reporting period with recourse obligations:

CF365, Memo—Loans Sold with Recourse of 120 Days or Less; and

CF366, Memo—Loans Sold with Recourse Greater Than 120 Days.

OTS believes these new line items will provide additional detail on the quarterly amount of loans sold with recourse obligations held by thrifts.

8. Deposits Gathered Through CDARS

OTS proposes to add a line to Schedule DI related to deposits gathered through the Certificate of Deposit Account Registry Service (CDARS):

DI230, Deposits Gathered through CDARS.

CDARS member institutions accept depositor funds and place these into certificates of deposit issued by financial institutions in the network. This occurs in amounts that ensure that both principal and interest are eligible for full FDIC insurance. OTS believes this new line item will provide additional detail on the deposit funding sources used by thrifts.

9. Additions for Deposit Assessment-Related Purposes

At the request of the Federal Deposit Insurance Corporation for deposit assessment-related purposes, the OTS proposes to add the following seven lines to Schedule DI:

DI630, Unsecured Federal Funds Purchased;

DI635, Secured Federal Funds Purchased;

DI641, Securities Sold Under Agreements to Repurchase;

DI645, Unsecured “Other Borrowings”—With a Remaining Maturity of One Year or Less;

DI651, Unsecured “Other Borrowings”—With a Remaining Maturity of Over One Year;

DI655, Subordinated Debentures—With a Remaining Maturity of One Year or Less; and

DI660, Subordinated Debentures—With a Remaining Maturity of Over One Year.

The additional reporting detail by maturity is proposed as the FDIC plans to provide a reduction in assessment rates to institutions with longer-term unsecured borrowings and subordinated debt. The FDIC believes that such borrowing and debt will likely remain when an institution fails, thus providing a cushion to help protect the Deposit Insurance Fund.

10. Pledged Loans and Securities

OTS proposes to add two lines to Schedule SI related to loans and securities pledged as collateral for loans:

SI394, Pledged Loans; and

SI395, Pledged Trading Assets.

OTS believes these new line items will provide additional detail on the amount of loans and securities pledged by thrifts as collateral for loans. These data items will permit OTS to better monitor the risk profiles of thrifts with concentrations of pledged loans and securities.

11. Questions Relating to Thrift Activities

OTS proposes to add the following four new questions to Schedule SI:

SI901, “Does the institution, without trust powers, act as trustee or custodian for Individual Health Savings Accounts, and other similar accounts that are invested in non-deposit products?”;

SI905, “Does the institution provide custody, safekeeping or other services involving the acceptance of orders for the sale or purchase of securities?”;

SI911, “Does the institution engage in third party broker arrangements, commonly referred to as ‘networking’, to sell securities products or services to thrift customers?”; and

SI915, “Does the institution sweep deposit funds into any open-end investment management company registered under the Investment Company Act of 1940 that holds itself out as a money market fund?”.

The questions relate to whether a thrift is a trustee or custodian for certain types of accounts or provides certain services in connection with orders for securities transactions regardless of whether the thrift exercises trust powers.

12. Holding Company Data

OTS proposes to add a series of 30 lines to Schedule HC to provide additional detailed data on the thrift holding company parent and on a consolidated basis:

HC221, Parent Only Perpetual Preferred Stock: Cumulative;

HC222, Parent Only Perpetual Preferred Stock: Noncumulative;

HC223, Parent Only Common Stock: Par Value;

HC224, Parent Only Common Stock: Paid in Excess of Par;

HC225, Parent Only Accumulated Other Comprehensive Income: Unrealized Gains (Losses) on Available-for-Sale Securities;

HC226, Parent Only Accumulated Other Comprehensive Income: Gains (Losses) on Cash Flow Hedges;

HC227, Parent Only Accumulated Other Comprehensive Income: Other;

HC228, Parent Only Retained Earnings;

HC229, Parent Only Other Components of Equity Capital;

HC301, Parent Only Cash, Deposits, and Investment Securities;

HC505, Parent Only Interest Income;

HC509, Parent Only Total Income;

HC570, Parent Only Total Expense;

HC571, Parent Only Total Income Taxes;

HC575, Parent Only Dividends Paid;

HC601, Consolidated Cash, Deposits, and Investment Securities;

HC621, Consolidated Perpetual Preferred Stock: Cumulative;

HC622, Consolidated Perpetual Preferred Stock: Noncumulative;

HC623, Consolidated Common Stock: Par Value;

HC624, Consolidated Common Stock: Paid in Excess of Par;

HC625, Consolidated Accumulated Other Comprehensive Income: Unrealized Gains (Losses) on Available-for-Sale Securities;

HC626, Consolidated Accumulated Other Comprehensive Income: Gains (Losses) on Cash Flow Hedges;

HC627, Consolidated Accumulated Other Comprehensive Income: Other;

HC628, Consolidated Only Retained Earnings;

HC629, Consolidated Only Other Components of Equity Capital.

HC705, Consolidated Interest Income;

HC709, Consolidated Total Income;

HC770, Consolidated Total Expense;

HC771, Consolidated Total Income Taxes; and

HC775, Consolidated Dividends Paid.

OTS believes these new line items will provide additional detail on thrift holding companies. With these new data items, OTS will be better able to monitor the risk profiles of thrift holding companies.

13. New Codes for Schedule CMR

OTS proposes to add a series of six new codes to Schedule CMR to provide additional reporting detail on collateralized debt obligations (CDOs), collateralized loan obligations (CLOs), and commercial mortgage-backed securities (CMBSs):

Collateralized Debt Obligations: Carrying Value;

Collateralized Debt Obligations: Market Value;

Collateralized Loan Obligations: Carrying Value;

Collateralized Loan Obligations: Market Value;

Commercial Mortgage-Backed Securities: Carrying Value; and

Commercial Mortgage-Backed Securities: Market Value.

CDOs are a type of asset-backed security and structured credit product. CDOs are constructed from a portfolio of fixed-income assets that are pooled together and passed on to different classes of owners.

CLOs are a type of asset-backed security and structured credit product. CLOs are structured from a portfolio of nonmortgage business loans that are pooled together and passed on to different classes of owners.

CMBSs are a type of asset-backed security and structured credit product. CMBSs are structured from a portfolio of commercial mortgage loans that are pooled together and passed on to different classes of owners.

IV. Discussion of Revisions Proposed for December 2009

A. Burden-Reducing Revision

1. Eliminating Schedule CSS—Subordinate Organization Schedule

OTS proposes to eliminate Schedule CSS from the TFR. Twenty-three line items are presently collected annually as of December 31, for each and every required subordinate organization owned directly or indirectly by the savings association. OTS believes these data can be collected independently of the TFR reporting system during the normal onsite or offsite examination process. In the most recent Schedule CSS filing for the reporting period ending December 31, 2007, 337 thrifts reported data for 666 subsidiary organizations and 492 thrifts reported no Schedule CSS data.

B. New Items

1. Schedule FV—Consolidated Assets and Liabilities Measured at Fair Value on a Recurring Basis

Effective for the March 31, 2007, report date, OTS began collecting information on certain assets and liabilities measured at fair value in Schedule SI. The data collected on Schedule SI is intended to be consistent with the fair value disclosures and other requirements in FASB Statement No. 157, Fair Value Measurements (FAS 157).

Based on the OTS's ongoing review of industry reporting and disclosure practices since the inception of this standard, and the reporting of items at fair value on Schedule SI, OTS is proposing to expand the data collected from thrifts with total assets greater than $10 billion.

To improve the consistency of data collected with the FAS 157 disclosure requirements and industry disclosure practices, OTS is proposing to add a new Schedule FV for thrifts with total assets greater than $10 billion to the TFR to expand the detail of fair value data collected on Schedule SI in a manner consistent with the asset and liability breakdowns on Schedule RC, Balance Sheet, as proposed by the banking agencies for the Call Report.

OTS has determined that the proposed information is necessary to more accurately assess the impact of fair value accounting and fair value measurements for safety and soundness purposes at the largest thrifts. The collection of the information as proposed will facilitate and enhance OTS's ability to monitor the extent of fair value accounting in thrifts' Reports of Condition pursuant to the disclosure requirements of FAS 157. The information to be collected is consistent with the disclosures required by FAS 157 and consistent with industry practice for reporting fair value measurements and should, therefore, not impose significant incremental burden on thrifts with total assets greater than $10 billion. The following 75 new line items are proposed for Schedule FV:

FV110, Federal Funds Sold and Securities Purchased Under Agreements to Resell—Total Fair Value Reported;

FV111, Federal Funds Sold and Securities Purchased Under Agreements to Resell—Amounts Netted in the Determination of Fair Value;

FV112, Federal Funds Sold and Securities Purchased Under Agreements to Resell—Level 1 Fair Value Measurements;

FV113, Federal Funds Sold and Securities Purchased Under Agreements to Resell—Level 2 Fair Value Measurements;

FV114, Federal Funds Sold and Securities Purchased Under Agreements to Resell—Level 3 Fair Value Measurements;

FV120, Trading Securities—Total Fair Value Reported;

FV121, Trading Securities—Amounts Netted in the Determination of Fair Value;

FV122, Trading Securities—Level 1 Fair Value Measurements;

FV123, Trading Securities—Level 2 Fair Value Measurements;

FV124, Trading Securities—Level 3 Fair Value Measurements;

FV130, Available-for-Sale Securities—Total Fair Value Reported;

FV131, Available-for-Sale Securities—Amounts Netted in the Determination of Fair Value;

FV132, Available-for-Sale Securities—Level 1 Fair Value Measurements;

FV133, Available-for-Sale Securities—Level 2 Fair Value Measurements;

FV134, Available-for-Sale Securities—Level 3 Fair Value Measurements;

FV210, Loans and Leases—Total Fair Value Reported;

FV211, Loans and Leases—Amounts Netted in the Determination of Fair Value;

FV212, Loans and Leases—Level 1 Fair Value Measurements;

FV213, Loans and Leases—Level 2 Fair Value Measurements;

FV214, Loans and Leases—Level 3 Fair Value Measurements;

FV240, Mortgage Servicing Rights—Total Fair Value Reported;

FV241, Mortgage Servicing Rights—Amounts Netted in the Determination of Fair Value;

FV242, Mortgage Servicing Rights—Level 1 Fair Value Measurements;

FV243, Mortgage Servicing Rights—Level 2 Fair Value Measurements;

FV244, Mortgage Servicing Rights—Level 3 Fair Value Measurements;

FV250, Derivative Assets—Total Fair Value Reported;

FV251, Derivative Assets—Amounts Netted in the Determination of Fair Value;

FV252, Derivative Assets—Level 1 Fair Value Measurements;

FV253, Derivative Assets—Level 2 Fair Value Measurements;

FV254, Derivative Assets—Level 3 Fair Value Measurements;

FV310, All Other Financial Assets—Total Fair Value Reported;

FV311, All Other Financial Assets—Amounts Netted in the Determination of Fair Value;

FV312, All Other Financial Assets—Level 1 Fair Value Measurements;

FV313, All Other Financial Assets—Level 2 Fair Value Measurements;

FV314, All Other Financial Assets—Level 3 Fair Value Measurements;

FV360, Total Assets Measured at Fair Value on a Recurring Basis—Total Fair Value Reported;

FV361, Total Assets Measured at Fair Value on a Recurring Basis—Amounts Netted in the Determination of Fair Value;

FV362, Total Assets Measured at Fair Value on a Recurring Basis—Level 1 Fair Value Measurements;

FV363, Total Assets Measured at Fair Value on a Recurring Basis—Level 2 Fair Value Measurements;

FV364, Total Assets Measured at Fair Value on a Recurring Basis—Level 3 Fair Value Measurements;

FV410, Federal Funds Purchased and Securities Sold Under Agreements to Repurchase—Total Fair Value Reported;

FV411, Federal Funds Purchased and Securities Sold Under Agreements to Repurchase—Amounts Netted in the Determination of Fair Value;

FV412, Federal Funds Purchased and Securities Sold Under Agreements to Repurchase—Level 1 Fair Value Measurements;

FV413, Federal Funds Purchased and Securities Sold Under Agreements to Repurchase—Level 2 Fair Value Measurements;

FV414, Federal Funds Purchased and Securities Sold Under Agreements to Repurchase—Level 3 Fair Value Measurements;

FV420, Deposits—Total Fair Value Reported;

FV421, Deposits—Amounts Netted in the Determination of Fair Value;

FV422, Deposits—Level 1 Fair Value Measurements;

FV423, Deposits—Level 2 Fair Value Measurements;

FV424, Deposits—Level 3 Fair Value Measurements;

FV440, Subordinated Debentures—Total Fair Value Reported;

FV441, Subordinated Debentures—Amounts Netted in the Determination of Fair Value;

FV442, Subordinated Debentures—Level 1 Fair Value Measurements;

FV443, Subordinated Debentures—Level 2 Fair Value Measurements;

FV444, Subordinated Debentures—Level 3 Fair Value Measurements;

FV460, Other Borrowings—Total Fair Value Reported;

FV461, Other Borrowings—Amounts Netted in the Determination of Fair Value;

FV462, Other Borrowings—Level 1 Fair Value Measurements;

FV463, Other Borrowings—Level 2 Fair Value Measurements;

FV464, Other Borrowings—Level 3 Fair Value Measurements;

FV470, Derivative Liabilities—Total Fair Value Reported;

FV471, Derivative Liabilities—Amounts Netted in the Determination of Fair Value;

FV472, Derivative Liabilities—Level 1 Fair Value Measurements;

FV473, Derivative Liabilities—Level 2 Fair Value Measurements;

FV474, Derivative Liabilities—Level 3 Fair Value Measurements;

FV490, All Other Financial Liabilities—Total Fair Value Reported;

FV491, All Other Financial Liabilities—Amounts Netted in the Determination of Fair Value;

FV492, All Other Financial Liabilities—Level 1 Fair Value Measurements;

FV493, All Other Financial Liabilities—Level 2 Fair Value Measurements;

FV494, All Other Financial Liabilities—Level 3 Fair Value Measurements;

FV510, Total Liabilities Measured at Fair Value on a Recurring Basis—Total Fair Value Reported;

FV511, Total Liabilities Measured at Fair Value on a Recurring Basis—Amounts Netted in the Determination of Fair Value;

FV512, Total Liabilities Measured at Fair Value on a Recurring Basis—Level 1 Fair Value Measurements;

FV513, Total Liabilities Measured at Fair Value on a Recurring Basis—Level 2 Fair Value Measurements; and

FV514, Total Liabilities Measured at Fair Value on a Recurring Basis—Level 3 Fair Value Measurements.

2. Fiduciary and Related Services Data

The revisions to Schedule FS include breaking out foundations and endowments as well as investment advisory agency accounts as separate types of fiduciary accounts in the schedule's sections for reporting fiduciary and related assets and income; adding items for Individual Retirement Accounts and similar accounts included in fiduciary and related assets; expanding the breakdown of managed assets by type of asset to cover all types of fiduciary accounts; adding new asset types in the breakdown of managed assets by type of asset; revising the manner in which discretionary investments in common trust funds and collective investment funds are reported in the breakdown of managed assets by type of asset; adding items for the market value of discretionary investments in proprietary mutual funds and the number of managed accounts holding such investments; and adding items for the number and principal amount outstanding of debt issues in substantive default for which the institution serves as indenture trustee.

The following 14 line items would be revised in Schedule FS:

Revising the caption for line FS260 from “Investment Management Agency Accounts—Amount of Managed Assets” to “Investment Management and Investment Advisory Accounts—Amount of Managed Assets”;

Revising the caption for line FS262 from “Investment Management Agency Accounts—Number of Managed Accounts” to “Investment Management and Investment Advisory Accounts—Number of Managed Accounts”;

Revising the caption for line FS360 from “Investment Management Agency Accounts” to “Investment Management & Investment Advisory Accounts”;

Revising line FS410 to Noninterest-Bearing Deposits—Personal Trust and Agency, Investment Management Agency Accounts;

Revising line FS415 to Interest-Bearing Deposits—Personal Trust and Agency, Investment Management Agency Accounts;

Revising line FS420 to U.S. Treasury and U.S. Government Agency Obligations—Personal Trust and Agency, Investment Management Agency Accounts;

Revising line FS425 to State, County, and Municipal Obligations—Personal Trust and Agency, Investment Management Agency Accounts;

Revising line FS430 to Common Trust Funds and Collective Investment Funds—Personal Trust and Agency, Investment Management Agency Accounts;

Revising line FS435 to Mutual Funds—Equity—Employee Benefit and Other Individual Retirement Accounts;

Revising line FS440 to Mutual Funds—Money Market—All Other Accounts;

Revising line FS445 to Mutual Funds—Other—Total;

Revising line FS450 to Short-Term Obligations—Personal Trust and Agency, Investment Management Agency Accounts;

Revising line FS455 to Other Notes and Bonds—Personal Trust and Agency, Investment Management Agency Accounts; and

Revising line FS460 to Common and Preferred Stocks—Personal Trust and Agency, Investment Management Agency Accounts.

The following 68 line items would be added to Schedule FS:

FS234, IRAs, HSAs, and Similar Accounts—Amount of Managed Assets;

FS235, IRAs, HSAs, and Similar Accounts—Amount of Nonmanaged Assets;

FS236, IRAs, HSAs, and Similar Accounts—Number of Managed Accounts;

FS237, IRAs, HSAs, and Similar Accounts—Number of Nonmanaged Accounts;

FS261, Investment Management and Investment Advisory Accounts—Amount of Nonmanaged Assets;

FS263, Investment Management and Investment Advisory Accounts—Number of Nonmanaged Accounts;

FS264, Foundations and Endowments—Amount of Managed Assets;

FS265, Foundations and Endowments—Amount of Nonmanaged Assets;

FS266, Foundations and Endowments—Number of Managed Accounts;

FS267, Foundations and Endowments—Number of Nonmanaged Accounts;

FS335, Fiduciary and Related Services Income—IRAs, HSAs, and Similar Accounts;

FS411, Noninterest-Bearing Deposits—Employee Benefit and Other Individual Retirement Accounts;

FS412, Noninterest-Bearing Deposits—All Other Accounts;

FS413, Noninterest-Bearing Deposits—Total;

FS416, Interest-Bearing Deposits—Employee Benefit and Other Individual Retirement Accounts;

FS417, Interest-Bearing Deposits—All Other Accounts;

FS418, Interest-Bearing Deposits—Total;

FS421, U.S. Treasury and U.S. Government Agency Obligations—Employee Benefit and Other Individual Retirement Accounts;

FS422, U.S. Treasury and U.S. Government Agency Obligations—All Other Accounts;

FS423, U.S. Treasury and U.S. Government Agency Obligations—Total;

FS426, State, County, and Municipal Obligations—Employee Benefit and Other Individual Retirement Accounts;

FS427, State, County, and Municipal Obligations—All Other Accounts;

FS428, State, County, and Municipal Obligations—Total;

FS431, Common Trust Funds and Collective Investment Funds—Employee Benefit and Other Individual Retirement Accounts;

FS432, Common Trust Funds and Collective Investment Funds—All Other Accounts;

FS433, Common Trust Funds and Collective Investment Funds—Total;

FS434, Mutual Funds—Equity—Personal Trust and Agency, Investment Management Agency Accounts;

FS436, Mutual Funds—Equity—All Other Accounts;

FS437, Mutual Funds—Equity—Total;

FS438, Mutual Funds—Money Market—Personal Trust and Agency, Investment Management Agency Accounts;

FS439, Mutual Funds—Money Market—Employee Benefit and Other Individual Retirement Accounts;

FS441, Mutual Funds—Money Market—Total;

FS442, Mutual Funds—Other—Personal Trust and Agency, Investment Management Agency Accounts;

FS443, Mutual Funds—Other—Employee Benefit and Other Individual Retirement Accounts;

FS444, Mutual Funds—Other—All Other Accounts;

FS451, Short-Term Obligations—Employee Benefit and Other Individual Retirement Accounts;

FS452, Short-Term Obligations—All Other Accounts;

FS453, Short-Term Obligations—Total;

FS456, Other Notes and Bonds—Employee Benefit and Other Individual Retirement Accounts;

FS457, Other Notes and Bonds—All Other Accounts;

FS458, Other Notes and Bonds—Total;

FS461, Common and Preferred Stocks—Employee Benefit and Other Individual Retirement Accounts;

FS462, Common and Preferred Stocks—All Other Accounts;

FS463, Common and Preferred Stocks—Total;

FS465, Real Estate Mortgages—Personal Trust and Agency, Investment Management Agency Accounts;

FS466, Real Estate Mortgages—Employee Benefit and Other Individual Retirement Accounts;

FS467, Real Estate Mortgages—All Other Accounts;

FS468, Real Estate Mortgages—Total;

FS470, Real Estate—Personal Trust and Agency, Investment Management Agency Accounts;

FS471, Real Estate—Employee Benefit and Other Individual Retirement Accounts;

FS472, Real Estate—All Other Accounts;

FS473, Real Estate—Total;

FS475, Miscellaneous Assets—Personal Trust and Agency, Investment Management Agency Accounts;

FS476, Miscellaneous Assets—Employee Benefit and Other Individual Retirement Accounts;

FS477, Miscellaneous Assets—All Other Accounts;

FS478, Miscellaneous Assets—Total;

FS480, Investments in Unregistered Funds and Private Equity Investments—Personal Trust and Agency, Investment Management Agency Accounts;

FS481, Investments in Unregistered Funds and Private Equity Investments—Employee Benefit and Other Individual Retirement Accounts;

FS482, Investments in Unregistered Funds and Private Equity Investments—All Other Accounts;

FS483, Investments in Unregistered Funds and Private Equity Investments—Total;

FS490, Total Managed Assets—Personal Trust and Agency, Investment Management Agency Accounts;

FS491, Total Managed Assets—Employee Benefit and Other Individual Retirement Accounts;

FS492, Total Managed Assets—All Other Accounts;

FS493, Total Managed Assets—Total;

FS495, Investments of Managed Fiduciary Accounts in Advised or Sponsored Mutual Funds—Market Value of Discretionary Investments in Proprietary Mutual Funds;

FS496, Investments of Managed Fiduciary Accounts in Advised or Sponsored Mutual Funds—Number of Managed Assets Holding Investments in Proprietary Mutual Funds;

FS516, Corporate and Municipal Trusteeships—Issues Reported in FS520 and FS515 that are in Default—Number of Issues; and

FS517, Corporate and Municipal Trusteeships—Issues Reported in FS520 and FS515 that are in Default—Principal Amount Outstanding.

Request for Comments:

OTS may not conduct or sponsor an information collection, and respondents are not required to respond to an information collection, unless the information collection displays a currently valid OMB control number.

In this notice, OTS is soliciting comments concerning the following information collection.

Statutory Requirement: 12 U.S.C. 1464(v) imposes reporting requirements for savings associations.

Type of Review: Revision of currently approved collections.

Affected Public: Business or For Profit.

Estimated Number of Respondents and Recordkeepers: 829.

Estimated Burden Hours per Respondent: 37.0 hours average for quarterly schedules and 2.0 hours average for schedules required only annually plus recordkeeping of an average of one hour per quarter.

Estimated Frequency of Response: Quarterly.

Estimated Total Annual Burden: 191,098 hours.

OTS is proposing to revise the TFR, which is currently an approved collection of information, on a phased-in basis over 2009. The effect on reporting burden of the proposed revisions to the TFR requirements will vary from institution to institution depending on the institution's asset size and its involvement with the types of activities or transactions to which the proposed changes apply.

The proposed TFR changes that would take effect as of March 31, 2009, would eliminate one line item, revise the captions for seven existing items, add four new items, and eliminate confidential treatment of fiduciary income, expense, and loss data in Schedule FS and data in Schedule HC.

The proposed TFR changes that would take effect as of June 30, 2009, would eliminate two existing items, revise two existing items, add 77 new items, add six new reporting codes in Schedule CMR, and add four new questions to Schedule SI on whether a thrift is a trustee or custodian for certain types of accounts or provides certain services in connection with orders for securities transactions regardless of whether the thrift exercises trust powers.

The proposed TFR revisions that would take effect December 31, 2009, would eliminate the entire Schedule CSS from the TFR, would add 75 new line items for assets and liabilities measured at fair value on a recurring basis in a new Schedule FV—Consolidated Assets and Liabilities Measured at Fair Value on a Recurring Basis for thrifts with total assets greater than $10 billion, and would revise Schedule FS—Fiduciary and Related Services by revising 14 existing line items and adding 68 new line items.

OTS estimates that the implementation of these reporting revisions will result in an increase in the current reporting burden imposed by the TFR on all savings associations.

As part of the approval process, we invite comments addressing one or more of the following points:

a. Whether the proposed revisions to the TFR collections of information are necessary for the proper performance of the agency's functions, including whether the information has practical utility;

b. The accuracy of the agency's estimate of the burden of the collection of information;

c. Ways to enhance the quality, utility, and clarity of the information to be collected;

d. Ways to minimize the burden of information collections on respondents, including through the use of automated collection techniques, the Internet, or other forms of information technology; and

e. Estimates of capital or start up costs and costs of operation, maintenance, and purchase of services to provide information.

OTS will summarize the comments received and include them in the request for OMB approval. All comments will become a matter of public record.

Clearance Officer: Ira L. Mills, (202) 906-6531, Office of Thrift Supervision, 1700 G Street, NW., Washington, DC 20552.

OMB Reviewer: Desk Officer for OTS, FAX: (202) 395-6974, U.S. Office of Management and Budget, 725—17th Street, NW., Room 10235, Washington, DC 20503.

Dated: September 24, 2008.
Deborah Dakin,
Senior Deputy Chief Counsel, Regulations and Legislation Division.

[FR Doc. E8-22988 Filed 9-30-08; 8:45 am]

BILLING CODE 6720-01-P